DEPARTMENT OF COMMERCE

National Oceanic and Atmospheric Administration

RIN 0648-XS41

Marine Mammals; File Nos. 87-1851 and 555-1870

AGENCY: National Marine Fisheries Service (NMFS), National Oceanic and Atmospheric Administration (NOAA), Commerce.

ACTION: Notice; receipt of applications for permit amendments.

SUMMARY: Notice is hereby given that Daniel P. Costa, PhD, University of California at Santa Cruz, Long Marine Laboratory, 100 Shaffer Road, Santa Cruz, CA, has applied for an amendment to Scientific Research Permit No. 87-1851-02; and, James T. Harvey, PhD, Moss Landing Marine Laboratory, 8272 Moss Landing Road, Moss Landing, CA, has applied for an amendment to Scientific Research Permit No. 555-1870-01.

DATES: Written, telefaxed, or e-mail comments must be received on or before August 9, 2010.

ADDRESSES: The application and related documents are available for review by selecting “Records Open for Public Comment” from the “Features” box on the Applications and Permits for Protected Species home page, https://apps.nmfs.noaa.gov, and then selecting File No. 87-1851 or 555-1870 from the list of available applications.

These documents are also available upon written request or by appointment in the following office(s):

Permits, Conservation and Education Division, Office of Protected Resources, NMFS, 1315 East-West Highway, Room 13705, Silver Spring, MD 20910; phone (301) 713-2289; fax (301) 713-0376; and

Southwest Region, NMFS, 501 West Ocean Blvd., Suite 4200, Long Beach, CA 90802-4213; phone (562) 980-4001; fax (562) 980-4018.

Written comments on this application should be submitted to the Chief, Permits, Conservation and Education Division, at the address listed above. Comments may also be submitted by facsimile to (301) 713-0376, or by e-mail to NMFS.Pr1Comments@noaa.gov. Please include the File No. in the subject line of the e-mail comment.

Those individuals requesting a public hearing should submit a written request to the Chief, Permits, Conservation and Education Division at the address listed above. The request should set forth the specific reasons why a hearing on this application would be appropriate.

FOR FURTHER INFORMATION CONTACT: Amy Sloan or Tammy Adams, (301) 713-2289.

SUPPLEMENTARY INFORMATION: The subject amendment to Permit No. 87-1851-02, issued December 28, 2009 (75 FR 106) and Permit No. 555-1870-01, issued February 24, 2010 (75 FR 11132) is requested under the authority of the Marine Mammal Protection Act of 1972, as amended (16 U.S.C. 1361 et seq.) and the regulations governing the taking and importing of marine mammals (50 CFR part 216).

Permit No. 87-1851-02 authorizes tagging studies and physiological research on seals in Antarctica, including crabeater (Hydrurga leptonyx), Weddell (Leptonychotes weddellii), and Ross (Ommatophoca rossii) seals. The permit also authorizes research on California sea lions (Zalophus californianus) to investigate foraging, diving, energetics, food habits, and at-sea distribution. The permit expires on January 31, 2012. The permit holder is requesting eight of 40 Weddell seals permitted for capture participate in a metabolic study in addition to currently permitted procedures. The amendment request is annually for the duration of the permit.

Permit No. 555-1870-01 authorizes research on the biology and ecology of harbor seals (Phoca vitulina) in California, Oregon, Washington, and Alaska including external tagging, sampling, and surgical implantation of subcutaneous radio transmitters. The permit expires April 15, 2012. The applicant proposes to modify the sedation and suture protocols for the implant surgeries in a trial study on six animals brought into captivity for post-implant monitoring. The applicant also proposes to increase the number of subadult seals captured, sampled, and tagged in the wild (from 20 male subadults and 20 female subadults a year to 35 males and 35 females a year) for a more robust survival model and to apply the new surgical protocols in the field if the pilot study proves successful. The amendment request is annually for the duration of the permit.

In compliance with the National Environmental Policy Act of 1969 (42 U.S.C. 4321 et seq.), an initial determination has been made that the activities proposed are categorically excluded from the requirement to prepare an environmental assessment or environmental impact statement.

Concurrent with the publication of this notice in the Federal Register, NMFS is forwarding copies of this application to the Marine Mammal Commission and its Committee of Scientific Advisors.

Dated: July 1, 2010.
P. Michael Payne,
Chief, Permits, Conservation and Education Division, Office of Protected Resources, National Marine Fisheries Service.

[FR Doc. 2010-16659 Filed 7-7-10; 8:45 am]

BILLING CODE 3510-22-P